DEPARTMENT OF COMMERCE

International Trade Administration

[A-570-016]

Certain Passenger Vehicles and Light Truck Tires From the People's Republic of China: Notice of Court Decision Not in Harmony With the Results of Antidumping Administrative Review; Notice of Amended Final Results; Correction

AGENCY: Enforcement and Compliance, International Trade Administration, Department of Commerce.

ACTION: Notice; correction.

SUMMARY: The U.S. Department of Commerce (Commerce) published notice in the Federal Register of June 3, 2022, in which Commerce announced the amended final results of the 2015-2016 administrative review of the antidumping duty (AD) order on certain passenger vehicle and light truck tires (passenger tires), following a final decision by the U.S. Court of International Trade which was not in harmony with the underlying final results of that review. In that notice, Commerce incorrectly labeled the headers of two tables setting forth the weighted-average dumping margins applicable in the amended final results as “Producer/Exporter,” instead of labeling them as “Exporter.” In addition, Commerce incorrectly separated certain entities in the first table, instead of listing them together. We are correcting these inadvertent errors with this notice, as described below.

FOR FURTHER INFORMATION CONTACT: Charles DeFilippo, AD/CVD Operations, Office VII, Enforcement and Compliance, International Trade Administration, U.S. Department of Commerce, 1401 Constitution Avenue NW, Washington, DC 20230; telephone: (202) 482-3797.

SUPPLEMENTARY INFORMATION:

Correction

In the Federal Register of June 3, 2022, in FR Doc 2022-11939, on pages 33718 and 33719, in the first column of each table, correct the header from “Producer/Exporter” to “Exporter.” In addition, on page 33719, in the first column of the first table, correct the list of entities by combining Sailun Jinyu Group Co., Ltd.; Sailun Jinyu Group (Hong Kong) Co., Limited; Shandong Jinyu Industrial Co., Ltd.; Sailun Tire International Corp.; Seatex International Inc.; Dynamic Tire Corp.; and Husky Tire Corp. together, rather than on separate lines.

Background

On June 3, 2022, Commerce published in the Federal Register the amended final results of the 2015-2016 administrative review of the order on passenger tires from the People's Republic of China.¹ We incorrectly labeled the headers in two tables setting forth the weighted-average dumping margins determined in that review as “Producer/Exporter,” instead of “Exporter.” In addition, we incorrectly separated certain entities in the first table, instead of listing them together as determined in the underlying investigation.² The corrected tables are below:

¹ See Certain Passenger Vehicles and Light Truck Tires from the People's Republic of China: Notice of Court Decision Not in Harmony With the Results of Antidumping Administrative Review; Notice of Amended Final Results, 87 FR 33717 (June 3, 2022); see also Certain Passenger Vehicle and Light Truck Tires from the People's Republic of China: Final Results of Antidumping Duty Administrative Review and Final Determination of No Shipments; 2015-2016, 83 FR 11690 (March 16, 2018).

² The entities that were incorrectly separated are: Sailun Jinyu Group Co., Ltd.; Sailun Jinyu Group (Hong Kong) Co., Limited; Shandong Jinyu Industrial Co., Ltd.; Sailun Tire International Corp.; Seatex International Inc.; Dynamic Tire Corp.; and Husky Tire Corp. See Antidumping Duty Investigation of Certain Passenger Vehicle and Light Truck Tires from the People's Republic of China: Final Determination of Sales at Less Than Fair Value and Final Affirmative Determination of Critical Circumstances, In Part, 80 FR 34893 (June 18, 2015).

Exporter | Final results: weighted- average dumping margin (percent) | Second final remand: weighted- average dumping margin (percent)
Qingdao Sentury Tire Co., Ltd./Sentury Tire USA Inc./Sentury (Hong Kong) Trading Co., Limited | 4.41 | ³ 1.27
Actyon Tyre Resources Co., Limited | 2.96 | 1.45
Shandong Anchi Tyres Co., Ltd | 2.96 | 1.45
Briway Tire Co., Ltd | 2.96 | 1.45
Shandong Changfeng Tyres Co., Ltd | 2.96 | 1.45
Qingdao Crown Chemical Co., Ltd | 2.96 | 1.45
Crown International Corporation | 2.96 | 1.45
Qingzhou Detai International Trading Co., Ltd | 2.96 | 1.45
Shandong Duratti Rubber Corporation Co., Ltd | 2.96 | 1.45
Shouguang Firemax Tyre Co., Ltd | 2.96 | 1.45
Fleming Limited | 2.96 | 1.45
Qingdao Fullrun Tyre Corp., Ltd | 2.96 | 1.45
Qingdao Fullrun Tyre Tech Corp., Ltd | 2.96 | 1.45
Guangrao Taihua International Trade Co., Ltd | 2.96 | 1.45
Shandong Guofeng Rubber Plastics Co., Ltd | 2.96 | 1.45
Hankook Tire China Co., Ltd | 2.96 | 1.45
Haohua Orient International Trade Ltd | 2.96 | 1.45
Shandong Hengyu Science & Technology Co., Ltd | 2.96 | 1.45
Hongkong Tiancheng Investment & Trading Co., Limited | 2.96 | 1.45
Hongtyre Group Co | 2.96 | 1.45
Jiangsu Hankook Tire Co., Ltd | 2.96 | 1.45
Jinyu International Holding Co., Limited | 2.96 | 1.45
Qingdao Jinhaoyang International Co., Ltd | 2.96 | 1.45
Jilin Jixing Tire Co., Ltd | 2.96 | 1.45
Kenda Rubber (China) Co., Ltd | 2.96 | 1.45
Qingdao Keter International Co., Limited | 2.96 | 1.45
Koryo International Industrial Limited | 2.96 | 1.45
Kumho Tire Co., Inc | 2.96 | 1.45
Qingdao Lakesea Tyre Co., Ltd | 2.96 | 1.45
Liaoning Permanent Tyre Co., Ltd | 2.96 | 1.45
Shandong Longyue Rubber Co., Ltd | 2.96 | 1.45
Macho Tire Corporation Limited | 2.96 | 1.45
Maxon Int'l Co., Limited | 2.96 | 1.45
Mayrun Tyre (Hong Kong) Limited | 2.96 | 1.45
Qingdao Nama Industrial Co., Ltd | 2.96 | 1.45
Nankang (Zhangjiagang Free Trade Zone) Rubber Industrial Co., Ltd | 2.96 | 1.45
Shandong New Continent Tire Co., Ltd | 2.96 | 1.45
Qingdao Odyking Tyre Co., Ltd | 2.96 | 1.45
Prinx Chengshan (Shandong) Tire Co., Ltd | 2.96 | 1.45
Riversun Industry Limited | 2.96 | 1.45
Roadclaw Tyre (Hong Kong) Limited | 2.96 | 1.45
Safe & Well (HK) International Trading Limited | 2.96 | 1.45
Sailun Jinyu Group Co., Ltd.; ⁴ Sailun Jinyu Group (Hong Kong) Co., Limited; ⁵ Shandong Jinyu Industrial Co., Ltd.; ⁶ Sailun Tire International Corp.; Seatex International Inc.; Dynamic Tire Corp.; Husky Tire Corp | 2.96 | 1.45
Shandong Province Sanli Tire Manufactured Co., Ltd | 2.96 | 1.45
Shandong Linglong Tyre Co., Ltd | 2.96 | 1.45
Shandong Yonking Rubber Co., Ltd | 2.96 | 1.45
Shandong Shuangwang Rubber Co., Ltd | 2.96 | 1.45
Shengtai Group Co., Ltd | 2.96 | 1.45
Techking Tires Limited | 2.96 | 1.45
Triangle Tyre Co., Ltd | 2.96 | 1.45
Tyrechamp Group Co., Limited | 2.96 | 1.45
Shandong Wanda Boto Tyre Co., Ltd | 2.96 | 1.45
Windforce Tyre Co., Limited | 2.96 | 1.45
Winrun Tyre Co., Ltd | 2.96 | 1.45
Weihai Zhongwei Rubber Co., Ltd | 2.96 | 1.45
Shandong Zhongyi Rubber Co., Ltd | 2.96 | 1.45
Zhaoqing Junhong Co., Ltd | 2.96 | 1.45

³ See Memorandum, “Final Results of Redetermination Pursuant to Second Remand of Certain Passenger Vehicle and Light Truck Tires from the People's Republic of China: Amended Analysis Memorandum for Qingdao Sentury Tire Co., Ltd.,” dated February 26, 2021.

⁴ Sailun Group Co., Ltd. is the successor-in-interest to Sailun Jinyu Group Co. Ltd. for purposes of AD cash deposits and liabilities. See Certain Passenger Vehicle and Light Truck Tires from the People's Republic of China: Final Results of Changed Circumstances Reviews, 85 FR 14638 (March 13, 2020).

⁵ Sailun Group (Hong Kong) Co., Limited is the successor-in-interest to Sailun Jinyu Group (Hong Kong) Co., Limited for purposes of AD cash deposits and liabilities. Id.

⁶ Sailun (Dongying) Tire Co., Ltd. is the successor-in-interest to Shangong Jinyu Industrial Co., Ltd. for purposes of AD cash deposits and liabilities. Id.

Exporter | Final results: weighted- average dumping margin (percent) | Third final remand: weighted-average dumping margin (percent) (applicable to the period January 27, 2015, through October 19, 2015)
Pirelli Tyre Co., Ltd | 76.46 | ⁷ 1.45

Notification to Interested Parties

⁷ See Memorandum, “Final Results of Redetermination Pursuant to Second Remand of Certain Passenger Vehicle and Light Truck Tires from the People's Republic of China: Amended Final Calculation Memorandum for Separate Rate Companies,” dated February 26, 2021.

This notice is issued and published in accordance with sections 516A(c) and (e) and 777(i) of the Tariff Act of 1930, as amended.

Dated: September 13, 2022.
Lisa W. Wang,
Assistant Secretary for Enforcement and Compliance.

[FR Doc. 2022-20207 Filed 9-16-22; 8:45 am]

BILLING CODE 3510-DS-P